DEPARTMENT OF HOMELAND SECURITY

[Docket No. CISA-2021-0003]

Correction to Notice of Request for Revision of a Currently Approved Information Collection 1670-0014 for the Chemical Facility Anti-Terrorism Standards (CFATS)

AGENCY: Cybersecurity and Infrastructure Security Agency, DHS.

ACTION: Correction; extension of comment period.

SUMMARY: On June 23, 2021, the Cybersecurity and Infrastructure Security Agency (CISA) published a 30-day notice and requested comments to revise Information Collection Request (ICR) 1670-0014 in the Federal Register. On June 29, CISA published a corrective notice. This notice extends the comment period for this notice for an additional 30 days.

DATES: Comments are due by August 30, 2021.

ADDRESSES: Written comments and recommendations for the proposed information collection should be sent within 30 days of publication of this notice to www.reginfo.gov/public/do/PRAMain. Find this particular information collection by first selecting the “Information Collection Request” tab and scrolling down to “Information Collection Review.” Then, select “Currently under 30-day Review—Open for Public Comments” or by using the search function.

FOR FURTHER INFORMATION CONTACT: Lona Saccomando, 202-579-0590, CISARegulations@cisa.dhs.gov.

SUPPLEMENTARY INFORMATION: CISA published the required 30-day notice for ICR 1670-0014 in the Federal Register on June 23, 2021. See 86 FR 32953. CISA published a corrective notice for ICR 1670-0014 in the Federal Register on June 29, 2021. See 86 FR 34267. After publication of the corrective notice a technical error resulted in ICR 1670-0014 being unavailable for comment on www.reginfo.gov/public/do/PRAMain. As a result, the comment period has been updated in the DATES section of this notice. Public comments will be accepted for 30 days after the publication date of this corrective notice.

Comments submitted in response to this notice may be made available to the public through relevant public websites. For this reason, please do not include in your comments information of a confidential nature, such as sensitive personal information or proprietary information. Please note that responses to this public comment request containing any routine notice about the confidentiality of the communication will be treated as public comments that may be made available to the public notwithstanding the inclusion of the routine notice. Comments that include protected information such as trade secrets, confidential commercial or financial information, Chemical-terrorism Vulnerability Information (CVI),¹ Sensitive Security Information (SSI),² or Protected Critical Infrastructure Information (PCII) ³ should not be submitted to the public docket. Comments containing protected information should be appropriately marked and packaged in accordance with all applicable requirements and submission must be coordinated with the point of contact for this notice provided in FOR FURTHER INFORMATION CONTACT section. CISA will forward all comments containing protected information that are received before the submission deadline to the OMB Desk Officer.

¹ For more information about CVI see 6 CFR 27.400 and the CVI Procedural Manual at www.dhs.gov/publication/safeguarding-cvi-manual.

² For more information about SSI see 49 CFR part 1520 and the SSI Program web page at www.tsa.gov/for-industry/sensitive-security-information.

³ For more information about PCII see 6 CFR part 29 and the PCII Program web page at www.dhs.gov/pcii-program.

Authority: 6 U.S.C. 621-629.

Samuel Vazquez,
Acting Chief Information Officer, Department of Homeland Security, Cybersecurity and Infrastructure Security Agency.

[FR Doc. 2021-16215 Filed 7-27-21; 4:15 pm]

BILLING CODE 9110-9P-P